DEPARTMENT OF VETERANS AFFAIRS

[OMB Control No. 2900-XXXX]

Agency Information Collection Activity Under OMB Review: CFM Stakeholder Feedback Survey

AGENCY: Office of Construction and Facilities Management, Department of Veterans Affairs.

ACTION: Notice.

SUMMARY: In compliance with the Paperwork Reduction Act (PRA) of 1995, this notice announces that the Office of Construction and Facilities Management, Department of Veterans Affairs, will submit the collection of information abstracted below to the Office of Management and Budget (OMB) for review and comment. The PRA submission describes the nature of the information collection and its expected cost and burden, and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-XXXX.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-XXXX” in any correspondence.

SUPPLEMENTARY INFORMATION:

Authority: 44 U.S.C. 3501-21.

Title: CFM Stakeholder Feedback Survey.

OMB Control Number: 2900-XXXX.

Type of Review: New collection.

Abstract: The Office of Construction & Facilities Management (CFM) Stakeholder Feedback Survey collects information for all of CFM's lines of business: major construction, major leases, facility condition assessments, and engineering studies. Respondents are members of project teams, and the information is related to how well the teams are performing. The purpose of the Stakeholder Feedback Survey Program is to improve project team performance across the four lines of business covered by the survey.

Respondents include federal employees in the Department of Veteran Affairs throughout CFM, Veterans Health Administration, and National Cemetery Administration, as well as U.S. Army Corps of Engineers construction management teams. The survey also collects information from members of private contractors associated with the projects described above (e.g., architecture/engineering, construction, developers/lessors). Respondents provide feedback on the performance of the technical sub-teams with whom they have worked on a particular project.

The survey uses a set of ten questions to collect the information on team performance, plus two open-ended questions that address what is going well and concerns. The survey is delivered via email with a link to an online collection instrument. Advance notice and reminder emails are used to encourage participation.

The survey is administered by a federal contracting team (Blue Water Thinking and Booz Allen Hamilton). Raw data is seen and handled only by members of this team. Summary results are provided to CFM via a dashboard designed as part of the contract to design and administer the survey.

An agency may not conduct or sponsor, and a person is not required to respond to a collection of information unless it displays a currently valid OMB control number. The Federal Register Notice with a 60-day comment period soliciting comments on this collection of information was published at 88 FR 85 on May 3, 2023, pages 27957 and 27958.

Affected Public: Members of private contracting firms associated with the projects described above (e.g., architecture/engineering, construction, developers/lessors) are asked to complete the survey.

Estimated Annual Burden: 77 hours.

Estimated Average Burden per Respondent: 8 minutes.

Frequency of Response: Team members of Major Construction and Major Leasing projects are asked to complete the survey twice a year for the duration of the project. Team members of all other types of projects are asked to complete the survey once a year.

Estimated Number of Respondents: 578.

By direction of the Secretary.
Dorothy Glasgow,
VA PRA Clearance Officer (Alt.), Office of Enterprise and Integration, Data Governance Analytics, Department of Veterans Affairs.

[FR Doc. 2023-14568 Filed 7-10-23; 8:45 am]

BILLING CODE 8320-01-P